DEPARTMENT OF THE INTERIOR

National Park Service

[NPS-WASO-NAGPRA-NPS0032880; PPWOCRADN0-PCU00RP14.R50000]

Notice of Inventory Completion: Temple University Anthropology Laboratory and Museum, Philadelphia, PA

AGENCY: National Park Service, Interior.

ACTION: Notice.

SUMMARY: Temple University Anthropology Laboratory and Museum has completed an inventory of human remains and an associated funerary object, in consultation with the appropriate Indian Tribes or Native Hawaiian organizations, and has determined that there is a cultural affiliation between the human remains and associated funerary object and present-day Indian Tribes or Native Hawaiian organizations. Lineal descendants or representatives of any Indian Tribe or Native Hawaiian organization not identified in this notice that wish to request transfer of control of these human remains and associated funerary object should submit a written request to the Temple University Anthropology Laboratory and Museum. If no additional requestors come forward, transfer of control of the human remains and associated funerary object to the lineal descendants, Indian Tribes, or Native Hawaiian organizations stated in this notice may proceed.

DATES: Lineal descendants or representatives of any Indian Tribe or Native Hawaiian organization not identified in this notice that wish to request transfer of control of these human remains and associated funerary object should submit a written request with information in support of the request to the Temple University Anthropology Laboratory and Museum at the address in this notice by November 29, 2021.

FOR FURTHER INFORMATION CONTACT: Leslie Reeder-Myers, Temple University Anthropology Laboratory and Museum, 1115 Polett Walk, Gladfelter Hall Room 204, Philadelphia, PA 19122, telephone (215) 204-1418, email leslie.reeder-myers@temple.edu.

SUPPLEMENTARY INFORMATION: Notice is here given in accordance with the Native American Graves Protection and Repatriation Act (NAGPRA), 25 U.S.C. 3003, of the completion of an inventory of human remains and associated funerary object under the control of the Temple University Anthropology Laboratory and Museum, Philadelphia, PA. The human remains and associated funerary object were removed from Warren County, NJ.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by the Temple University Anthropology Laboratory and Museum professional staff in consultation with representatives of the Delaware Nation, Oklahoma; Delaware Tribe of Indians, Oklahoma; and the Stockbridge-Munsee Community, Wisconsin (hereafter referred to as “The Tribes”).

History and Description of the Remains

In 1991, human remains representing, at minimum, one individual were removed from a burial on the Rapp Farm site in Warren County, NJ, by amateur archeologist Russ Davis. Davis discovered the human remains on a high bank on the southern side of the Pohatcong Creek, about 50 feet from its junction with the Delaware River, in the Delaware Valley. Davis contacted professional archeologist Michael Stewart at Temple University, who visited the site. The human remains were brought to Temple University's Anthropology Laboratory for examination by physical anthropologist Leonard Greenfield, after which they were returned to Davis. In 2021, Davis donated the human remains to the Temple Anthropology Laboratory. The human remains belong to a thirty-something adult of unknown sex. No known individual was identified. The one associated funerary object is an incised earthenware sherd.

The positioning of the human remains within the sedimentary context of the eroding riverbank indicates a date within the Late Woodland period (A.D. 900- 1600). The site's proximity to the Overpeck site, located about 5 miles away, on the west side of the Delaware River, indicates a cultural affiliation with Lenape descendants, the Delaware Tribes.

Geographic affiliation is consistent with the historically documented territory of the Delaware Tribes. Archeological evidence is consistent with documented use of the area by the Delaware Tribes. Historical evidence and expert opinion indicate shared group identity between the Delaware Tribes and the Rapp Farm site.

Determinations Made by the Temple University Anthropology Laboratory and Museum

Officials of the Temple University Anthropology Laboratory and Museum have determined that:

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and The Tribes.

Additional Requestors and Disposition

Lineal descendants or representatives of any Indian Tribe or Native Hawaiian organization not identified in this notice that wish to request transfer of control of these human remains and associated funerary object should submit a written request with information in support of the request to Leslie Reeder-Myers, Temple University Anthropology Laboratory and Museum, 1115 Polett Walk, Gladfelter Hall Room 204, Philadelphia, PA 19122, telephone (215) 204-1418, email leslie.reeder-myers@temple.edu, by November 29, 2021. After that date, if no additional requestors have come forward, transfer of control of the human remains and associated funerary object to The Tribes may proceed.

The Temple University Anthropology Laboratory and Museum is responsible for notifying The Tribes that this notice has been published.

Dated: October 14, 2021.
Melanie O'Brien,
Manager, National NAGPRA Program.

[FR Doc. 2021-23488 Filed 10-27-21; 8:45 am]

BILLING CODE 4312-52-P